NATIONAL AERONAUTICS AND SPACE ADMINISTRATION

[Notice: 22-020]

Name of Information Collection: NASA Virtual Guest Watch Party Registration

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by April 14, 2022.

ADDRESSES: Written comments and recommendations for this information collection should be sent within 30 days of publication of this notice to www.reginfo.gov/public/do/PRAMain.

Find this particular information collection by selecting “Currently under 30-day Review-Open for Public Comments” or by using the search function.

FOR FURTHER INFORMATION CONTACT: Requests for additional information or copies of the information collection instrument(s) and instructions should be directed to Claire Little, NASA Clearance Officer, NASA Headquarters, 300 E Street SW, JF0000, Washington, DC 20546, 202-358-2375 or email claire.a.little@nasa.gov.

SUPPLEMENTARY INFORMATION:

I. Abstract

The National Aeronautics and Space Administration (NASA) is committed to effectively performing the Agency's communication function in accordance with the Space Act Section 203(a)(3) to “provide for the widest practicable and appropriate dissemination of information concerning its activities and the results there of,” and to enhance public understanding of, and participation in, the nation's space program in accordance with the NASA Strategic Plan.

The Space Act of 1958, directs the Agency to expand human knowledge of Earth and space phenomena. The Virtual Guest Program exists to leverage the excitement around launches and milestones to widely disseminate information about Earth and space phenomena through the sharing of information about research on launches, mission objectives, public engagement activities (coloring pages, social media filters) and the like.

The program provides registration opportunities for individuals and watch parties so that NASA may provide them specific information they are interested in receiving and to share a detailed slice of the NASA efforts in carrying out the other portions of the Space Act of 1958. By learning through information submitted of the plans of Watch Party organizers, NASA can best provide appropriate resources and share information about its activities and results.

II. Methods of Collection

Electronic/Online Web Form.

III. Data

Title: NASA Virtual Guest Watch Party Registration.

OMB Number: 2700-xxxx.

Type of Review: New.

Affected Public: Individuals.

Estimated Annual Number of Activities: 1.

Estimated Number of Respondents per Activity: 100,869.

Annual Responses: 100,869.

Estimated Time per Response: 3 minutes.

Estimated Total Annual Burden Hours: 5,043.

Estimated Total Annual Cost: $75,652.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2022-05358 Filed 3-14-22; 8:45 am]

BILLING CODE 7510-13-P